DEPARTMENT OF LABOR

Employment and Training Administration

[TA-W-41,208 and TA-W-41, 208A]

Valeo Climate Control, USA-2 Division, Automotive Air Conditioning Condenser Line, Grand Prairie, TX; Valeo Climate Control, USA-2 Division, Aluminum Tubing Line, Grand Prairie, TX; Notice of Revised Determination on Reconsideration

By letter postmarked October 30, 2002, the company requested administrative reconsideration regarding the Department's Negative Determination Regarding Eligibility to Apply for Worker Adjustment Assistance, applicable to the workers of the subject firm.

The initial investigation resulted in a negative determination issued on September 27, 2002, based on the finding that imports of air conditioning condensers and aluminum tubing did not contribute importantly to worker separations at the Grand Prairie plant. The denial notice was published in the Federal Register on October 22, 2002 (67 FR 64922).

To support the request for reconsideration, the company supplied additional information to supplement that which was gathered during the initial investigation. Upon further review and contact with the company, it was revealed that the company began importing a significant portion of competitive condensers in the relevant period. Further, as established in the original investigation, a significant portion of tubing produced at the subject firm was integrated into the production of condensers.

Conclusion

After careful review of the additional facts obtained on reconsideration, I conclude that increased imports of articles like or directly competitive with those produced at Valeo Climate Control, USA-2 Division, Automotive Air Conditioning Condenser Line, and the Aluminum Tubing Line, Grand Prairie, Texas, contributed importantly to the declines in sales or production and to the total or partial separation of workers at the subject firm. In accordance with the provisions of the Act, I make the following certification:

All workers of Valeo Climate Control, USA-2 Division, Automotive Air Conditioning Condenser Line (TA-W-41,208), and the Aluminum Tubing Line (TA-W-41,208A), Grand Prairie, Texas, who became totally or partially separated from employment on or after March 1, 2001 through two years from the date of this certification, are eligible to apply for adjustment assistance under Section 223 of the Trade Act of 1974.

Signed in Washington, DC this 2nd day of April 2003.
Edward A. Tomchick
Director, Division of Trade Adjustment Assistance.

[FR Doc. 03-9145 Filed 4-14-03; 8:45 am]

BILLING CODE 4510-30-P